FEDERAL COMMUNICATIONS COMMISSION

Notice of Public Information Collection(s) Being Submitted for Review to the Office of Management and Budget

October 10, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 13, 2007. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at Nicholas_A._Fraser@omb.eop.gov and to Judith-B.Herman@fcc.gov, Federal Communications Commission, Room 1-B441, 445 12th Street, SW., Washington, DC 20554 or via e-mail to PRA@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-0360.

Title: Section 80.409, Station Logs.

Form No.: N/A.

Type of Review: Extension of a currently approved collection.

Respondents: Business or other for-profit, not-for profit institutions, and state, local or tribal government.

Number of Respondents: 20,549 respondents; 20,549 responses.

Estimated Time per Response: 27.3-95 hours.

Frequency of Response: Recordkeeping requirement.

Obligation To Respond: Mandatory.

Total Annual Burden: 574,508 hours.

Total Annual Cost: N/A.

Privacy Act Impact Assessment: N/A.

Nature and Extent of Confidentiality: There is no need for confidentiality.

Needs and Uses: The Commission will submit this information collection to the OMB as an extension (no change in the recordkeeping requirement) during this comment period to obtain the full three-year clearance from them. There is a change in the number of respondents/responses and the burden hours.

The recordkeeping requirements contained in 47 CFR 80.409 is necessary to document the operation and public correspondence service of public coast radiotelegraph, public coast radiotelephone, stations and Alaska-public fixed stations, ship radiotelegraph, ship radiotelephone and applicable radiotelephone, including the logging of distress and safety calls where applicable. The information is used by FCC personnel during inspection and investigations to ensure compliance with applicable rules and to assist in accident investigations. If the information was not collected, documentation concerning the operation of public coast radiotelegraph stations, public coast radiotelephone stations and Alaska-public fixed stations would not be available.

Federal Communications Commission.
Marlene H. Dortch,
Secretary

[FR Doc. 07-5055 Filed 10-11-07; 8:45 am]

BILLING CODE 6712-01-M